DEPARTMENT OF COMMERCE

Census Bureau

Submission For OMB Review; Comment Request

DOC has submitted to the Office of Management and Budget (OMB) for clearance the following proposal for collection of information under the provisions of the Paperwork Reduction Act (44 U.S.C. chapter 35).

Agency: Census Bureau, the Department of Commerce.

Title: Current Population Survey—November Voting and Registration Supplement.

Form Number(s): None (automated survey instrument).

Agency Approval Number: 0607-0466.

Type of Request: Reinstatement, without change, of an expired collection.

Burden: 1,200 hours.

Number of Respondents: 48,000.

Avg Hours Per Response: 1.5 minutes.

Needs and Uses: The Census Bureau requests Office of Management and Budget (OMB) approval to continue the biennial collection of data concerning voting and registration. We will collect the data as part of the November Current Population Survey (CPS), through a series of supplemental items. The supplement questions will be identical to those asked in the November 1998 supplement. Voting and registration data have been collected since 1964 on the CPS, yielding statistics on voter (and nonvoter) characteristics, and current voter trends in each Presidential or Congressional election.

Federal, state, and local election officials; college institutions; political party committees; research groups; and other private organizations use the voting and registration data collected in the November supplement. These data enable policymakers to keep issues up-to-date such as changes in participation in the election process by demographic characteristics, age, sex, race, ethnicity, and educational attainment. Election officials use these data to formulate policies relating to the voting and registration process. Data obtained on duration of residence will allow policymakers and researchers to better determine the relationships between other demographic characteristics and voting behavior.

Affected Public: Individuals or households.

Frequency: Biennially.

Respondent's Obligation: Voluntary.

Legal Authority: Title 13 U.S.C., section 182.

OMB Desk Officer: Susan Schechter, (202) 395-5103.

Copies of the above information collection proposal can be obtained by calling or writing Linda Engelmeier, DOC Forms Clearance Officer, (202) 482-3129, Department of Commerce, room 6086, 14th and Constitution Avenue, NW, Washington, DC 20230 (or via the Internet at LEngelme@doc.gov).

Written comments and recommendations for the proposed information collection should be sent within 30 days of publication of this notice to Susan Schechter, OMB Desk Officer, room 10201, New Executive Office Building, Washington, DC 20503.

Dated: August 3, 2000.
Madeleine Clayton,
Management Analyst, Office of the Chief Information Officer.

[FR Doc. 00-20060 Filed 8-8-00; 8:45 am]

BILLING CODE 3510-07-P